DEPARTMENT OF THE TREASURY

Fiscal Service

Surety Companies Acceptable on Federal Bonds: Surety Bonding Company of America

AGENCY: Financial Management Service, Fiscal Service, Department of the Treasury.

ACTION: Notice.

SUMMARY: This is Supplement No. 9 to the Treasury Department Circular 570; 2001 Revision, published July 2, 2001 at 66 FR 35024.

FOR FURTHER INFORMATION CONTACT: Surety Bond Branch at (202) 874-6765.

SUPPLEMENTARY INFORMATION: A Certificate of Authority as an acceptable survey on Federal bonds is hereby issued to the following Company under 31 U.S.C. 9304 to 9308. Federal bond-approving officers should annotate their reference copies of the Treasury Circular 570, 2001 Revision, on page 35056 to reflect this addition:

Company Name: Surety Bonding Company of America.

Business Address: P.O. Box 5111, Sioux Falls, South Dakota, 57117-5111.

Phone: (605) 336-0850.

Underwriting Limitation b/: $412,000.

Surety Licenses c/: AZ, AR, CA, DE, GA, ID, IL, IN, KS, MN, MO, MT, NE, NV, NM, NY, ND, OR, SD, TN, TX, UT, WV, WY.

Incorporated In: South Dakota.

Certificates of Authority expire on June 30 each year, unless revoked prior to that date. The Certificates are subject to subsequent annual renewal as long as the companies remain qualified (31 CFR part 223). A list of qualified companies is published annually as of July 1 in Treasury Department Circular 570, with details as to underwriting limitations, areas in which licensed to transact surety business and other information.

The Circular may be viewed and downloaded through the Internet at http://www.fms.treas.gov/c570/index.html. A hard copy may be purchased from the Government Printing Office (GPO) Subscription Service, Washington, DC, Telephone (202) 512-1800. When ordering the Circular from GPO, use the following stock number: 769-004-04067-1.

Questions concerning this Notice may be directed to the U.S. Department of the Treasury, Financial Management Service, Financial Accounting and Services Division, Surety Bond Branch, 3700 East-West Highway, Room 6A04, Hyattsville, MD 20782.

Dated: October 30, 2001.
Wanda J. Rogers,
Director, Financial Accounting and Services Division, Financial Management Service.

[FR Doc. 01-28213 Filed 11-8-01; 8:45 am]

BILLING CODE 4810-35-M